DEPARTMENT OF EDUCATION

National Board for Education Sciences; Meeting

AGENCY: National Board for Education Sciences; ED.

ACTION: Notice of meeting.

SUMMARY: This notice sets forth the schedule and proposed agenda of a forthcoming meeting of the National Board for Education Sciences. Notice of this meeting is required under section 10(a)(2) of the Federal Advisory Committee Act. This document is intended to notify the general public of their opportunity to attend the meeting. Individuals who will need accommodations for a disability (i.e., interpreting services, assistive listening devices, materials in alternative format) should notify Sonia Chessen at (202) 219-2195 by April 21, 2006. We will attempt to meet requests after this date, but cannot guarantee availability of the requested accommodation. The meeting site is accessible to individuals with disabilities.

DATES: May 8 and 9, 2006.

Time: May 8, 2 p.m. to 5 p.m.; May 9, 9 a.m. to 2 p.m.

Location: The Board Room (Room 100), 80 F St., NW., Washington, DC 20208.

FOR FURTHER INFORMATION CONTACT: Sonia Chessen, Executive Director, National Board for Education Sciences, Washington, DC 20208. Tel.: (202) 219-2195; fax: (202) 219-1466; e-mail: Sonai.Chessen@ed.gov.

SUPPLEMENTARY INFORMATION: The National Board for Education Sciences is authorized by section 116 of the Education Sciences Reform Act of 2002. The Board advises the Director of the Institute of Education Sciences (IES) on the establishment of activities to be supported by the Institute, on the funding of applications for grants, contracts, and cooperative agreements for research after the completion of peer review, and reviews and evaluates the work of the Institute. On May 8, the Board will meet from 2 to 5 p.m. to hear an update on the work of the Institute of Education Sciences (IES) and a presentation on new initiatives to serve the needs of practitioners, followed by a discussion about jointly sponsored research dissemination. On May 9 at 9 a.m., the Board will review the activities of the previous day and revise the day's agenda as needed. Starting at 9:15 a.m., the Board will hear invited speakers on the topic of Research Evidence Needed by State Education Policy Makers. At 11 a.m., the Board will consider its annual report to Congress on the activities of IES. After a working lunch starting at noon, the Board will issue IES research in the context of the No Child Left Behind legislation, followed by a discussion of next steps. The meeting will adjourn at 2 p.m. Records are kept of all Board proceedings and are available for public inspection at the office of the National Board for Education Sciences, Room 627 H, 555 New Jersey Ave., NW., Washington, DC 20208.

Dated: April 3, 2006.
Grover J. Whitehurst,
Director, Institute of Education Sciences.

[FR Doc. 06-3371 Filed 4-7-06; 8:45 am]

BILLING CODE 4000-01-M